LEGAL SERVICES CORPORATION

Sunshine Act Meeting of the Board of Directors

TIME AND DATE: The Board of Directors of the Legal Services Corporation will meet on November 11, 2000. The meeting will begin at 10 a.m. and continue until conclusion of the Board's agenda.

LOCATION: Marriott at Metro Center, 775 12th Street, NW, Washington, D.C

STATUS OF MEETING: Open, except that a portion of the meeting may be closed pursuant to a vote of the Board of Directors to hold an executive session. At the closed session, the Corporation's General Counsel will report to the Board on litigation to which the Corporation is or may become a party, and the Board may act on the matters reported. The closing is authorized by the relevant provisions of the Government in the Sunshine Act [5 U.S.C. 552b(c)(10)] and the corresponding provisions of the Legal Services Corporation's implementing regulation [45 CFR § 1622.5(h)]. A copy of the General Counsel's Certification that the closing is authorized by law will be available upon request.

MATTERS TO BE CONSIDERED:

Open Session

1. Approval of agenda.

2. Approval of the minutes of the Board's meeting of September 18, 2000.

3. Approval of the minutes of the executive session of the Board's meeting of September 18, 2000.

4. Scheduled Public Speakers.

Esther Lardent, ABA Director of the Pro Bono Center

Bonnie Allen, National Legal Aid & Defender Association

John Russenello, Russenello Research

5. Chairman's Report.

6. Members' Report.

7. Inspector General's Report.

8. President's Report.

9. Consider and act on the report of the Board's Committee on Provision for the Delivery of Legal Services.

10. Consider and act on the report of the Board's Operations and Regulations Committee.

11. Consider and act on the report of the Board's Annual Performance Reviews Committee.

12. Consider and act on the employment status of the President and Inspector General.

Closed Session

13. Briefing ¹ by the Inspector General on the activities of the Office of Inspector General.

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 & 1622.3

14. Staff presentation on corporate insurance issues.

15. Consider and act on the Office of Legal Affairs' report on potential and pending litigation involving LSC.

Open Session

16. Consider and act on other business.

17. Public Comment.

CONTACT PERSON FOR INFORMATION: Victor M. Fortuno, Vice President for Legal Affairs, General Counsel & Corporate Secretary, at (202) 336-8800.

SPECIAL NEEDS: Upon request, meeting notices will be made available in alternate formats to accommodate visual and hearing impairments. Individuals who have a disability and need an accommodation to attend the meeting may notify Shannon Nicko Adaway, at (202) 336-8800.

Dated: November 1, 2000.
Victor M. Fortuno,
Vice President for Legal Affairs, General Counsel & Corporate Secretary.

[FR Doc. 00-28460 Filed 11-1-00; 4:56 pm]

BILLING CODE 7050-01-P